DEPARTMENT OF ENERGY

Federal Energy Regulatory Commission

[Docket No. RP03-43-001]

Enbridge Pipelines (KPC); Notice of Compliance Filing

December 11, 2002.

Take notice that on December 6, 2002, Enbridge Pipelines (KPC) (Enbridge KPC) tendered for filing as part of its FERC Gas Tariff, First Revised Volume No. 1, the following tariff sheets, to be made effective December 1, 2002:

Substitute Third Revised Sheet No. 15

Substitute Third Revised Sheet No. 21

Substitute Third Revised Sheet No. 26

Substitute Third Revised Sheet No. 28

Substitute Third Revised Sheet No. 30

Substitute Second Revised Sheet No. 31A

Substitute Second Revised Sheet No. 31C

Enbridge KPC states that the purpose of the filing was to comply with the Commissions Order dated November 29, 2002 in FERC Docket No. RP03-43-000. Additionally, KPC stated that in addition to the correction described above, the instant filing also reflected the rates as approved by the Commission's Order dated November 27, 2002 in Docket Nos. RP03-50-000 and 001. Because the Commission approved an effective date of December 1, 2002 in that docket, which is the same effect date that the Commission conditionally accepted in this docket, the proposed tariff sheets show the rates and fuel retention percentages that will be effective on December 1, 2002.

Enbridge KPC states that copies of its transmittal letter has been provided by First Class mail and/or electronic communication, depending on the method that such party elected to receive such copies, to all affected customers and interested state commissions.

Any person desiring to protest said filing should file a protest with the Federal Energy Regulatory Commission, 888 First Street, NE., Washington, DC 20426, in accordance with section 385.211 of the Commission's Rules and Regulations. All such protests must be filed in accordance with section 154.210 of the Commission's Regulations. Protests will be considered by the Commission in determining the appropriate action to be taken, but will not serve to make protestants parties to the proceedings. This filing is available for review at the Commission in the Public Reference Room or may be viewed on the Commission's Web site at http://www.ferc.gov using the “FERRIS” link. Enter the docket number excluding the last three digits in the docket number field to access the document.

For Assistance, please contact FERC Online Support at FERCOnlineSupport@ferc.gov or toll-free at (866) 208-3676, or TTY, contact (202) 502-8659. The Commission strongly encourages electronic filings. See 18 CFR 385.2001(a)(1)(iii) and the instructions on the Commission's Web site under the “e-Filing” link.

Linwood A. Watson, Jr.,
Deputy Secretary.

[FR Doc. 02-31742 Filed 12-17-02; 8:45 am]

BILLING CODE 6717-01-P